DEPARTMENT OF COMMERCE

International Trade Administration

[A-351-605]

Frozen Concentrated Orange Juice from Brazil; Amended Final Results of Antidumping Duty Administrative Review

AGENCY: Import Administration, International Trade Administration, Department of Commerce.

EFFECTIVE DATE: November 7, 2000.

FOR FURTHER INFORMATION CONTACT: Irina Itkin, AD/CVD Enforcement Group I, Office 2, Import Administration, International Trade Administration, U.S. Department of Commerce, 14th Street and Constitution Avenue, NW, Washington, DC 20230; telephone (202) 482-0656.

Applicable Statute and Regulations

Unless otherwise indicated, all citations to the Act are references to the provisions effective January 1, 1995, the effective date of the amendments made to the Act by the Uruguay Round Agreements Act (URAA). In addition, unless otherwise indicated, all citations to the Department's regulations are to 19 CFR part 351 (1999).

Amendment to Final Results

In accordance with section 751(a) of the Act, on October 11, 2000, the Department published the final results of the 1998-1999 administrative review on frozen concentrated orange juice (FCOJ) from Brazil, in which we determined that U.S. sales of FCOJ from Brazil were made at less than normal value (65 FR 60406). On October 12, 2000, we received an allegation, timely filed pursuant to 19 CFR 351.224(c)(2), from the respondent, Citrovita Agro Industrial Ltda./Cambuhy MC Industrial Ltda./Cambuhy Citrus Comercial e Exportadora (collectively “Citrovita”), that the Department made a ministerial error in its final results. We received comments on this allegation from the petitioners on October 18, 2000.

After analyzing Citrovita's submission and the petitioners' comments, we have determined, in accordance with 19 CFR 351.224, that a ministerial error was made in our final margin calculations for Citrovita. Specifically, we find that we failed to apply the proper U.S. dollar/Brazilian real exchange rate from January 13, 1999, through April 2, 1999, as outlined in the Concurrence Memorandum dated May 30, 2000. For a detailed discussion of the ministerial error, as well as the Department's analysis, see the memorandum to Louis Apple from the Team, dated October 31, 2000.

Therefore, in accordance with 19 CFR 351.224(e), we are amending the final results of the 1998-1999 antidumping duty administrative review on FCOJ from Brazil. The revised dumping margin is as follows:

Exporter/manufacturer | Original final margin percentage | Revised final margin percentage
Citrovita Agro Industrial Ltda./Cambuhy MC Industrial Ltda./Cambuhy Citrus Comercial e Exportadora | 25.87 | 14.77

Scope of the Review

The merchandise covered by this review is FCOJ from Brazil. The merchandise is currently classifiable under item 2009.11.00 of the Harmonized Tariff Schedule of the United States (HTSUS). The HTSUS item number is provided for convenience and for customs purposes. The Department's written description of the scope of this proceeding remains dispositive.

This administrative review and notice are in accordance with sections 751(a)(1) and 777(i) of the Act.

Dated: October 31, 2000.
Troy H. Cribb,
Assistant Secretary for Import Administration.

[FR Doc. 00-28565 Filed 11-6-00; 8:45 am]

BILLING CODE 3510-DS-P